DEPARTMENT OF ENERGY

Federal Energy Regulatory Commission

Combined Notice of Filings #2

Take notice that the Commission received the following electric rate filings:

Docket Numbers: ER11-4266-003.

Applicants: Richland-Stryker Generation LLC.

Description: Supplemental to Notice of Non-Material Change in Status of Richland-Stryker Generation LLC.

Filed Date: 4/27/12.

Accession Number: 20120427-5138.

Comments Due: 5 p.m. ET 5/18/12.

Docket Numbers: ER12-645-003.

Applicants: California Ridge Wind Energy LLC.

Description: Notification of Change in Facts Under Market-Based Rate Authority of California Ridge Wind Energy LLC.

Filed Date: 4/27/12.

Accession Number: 20120427-5281.

Comments Due: 5 p.m. ET 5/18/12.

Docket Numbers: ER12-1629-000.

Applicants: Interstate Power and Light Company.

Description: IPL RES-5 Wholesale Tariff Revisions to be effective 7/1/2012.

Filed Date: 4/27/12.

Accession Number: 20120427-5056.

Comments Due: 5 p.m. ET 5/18/12.

Docket Numbers: ER12-1630-000.

Applicants: California Independent System Operator Corporation.

Description: 2012-04-27 CAISO Frequency Regulation Compensation Filing to be effective 4/9/2013.

Filed Date: 4/27/12.

Accession Number: 20120427-5116.

Comments Due: 5 p.m. ET 5/18/12.

Docket Numbers: ER12-1631-000.

Applicants: Standard Binghamton LLC.

Description: Standard Binghamton LLC submits tariff filing per 35.15: Standard Binghamton MBR Tariff Cancellation Filing to be effective 4/27/2012.

Filed Date: 4/27/12.

Accession Number: 20120427-5134.

Comments Due: 5 p.m. ET 5/18/12.

Docket Numbers: ER12-1632-000.

Applicants: BlueStar Energy Services Inc.

Description: BlueStar Energy Services Inc. submits tariff filing per 35: AEPSC-BlueStar Order 697 Compliance to be effective 3/7/2012.

Filed Date: 4/27/12.

Accession Number: 20120427-5242.

Comments Due: 5 p.m. ET 5/18/12.

Docket Numbers: ER12-1633-000.

Applicants: U.S. Energy Partners, LLC.

Description: U.S. Energy Partners, LLC submits tariff filing per 35.12: U.S. Energy Partners, LLC FERC MBR Baseline Filing to be effective 5/1/2012.

Filed Date: 4/27/12.

Accession Number: 20120427-5250.

Comments Due: 5 p.m. ET 5/18/12.

Docket Numbers: ER12-1634-000.

Applicants: Southwestern Public Service Company.

Description: Southwestern Public Service Company submits tariff filing per 35.13(a)(2)(iii: 2012-4-27-GSEC-E&P-Mustang-VI-655-0.0.0-Filing to be effective 4/30/2012.

Filed Date: 4/27/12.

Accession Number: 20120427-5275.

Comments Due: 5 p.m. ET 5/18/12.

Docket Numbers: ER12-1635-000.

Applicants: Wolverine Power Supply Cooperative, Inc.

Description: Wolverine Power Supply Cooperative, Inc. submits tariff filing per 35.13(a)(2)(iii: Rate Schedule No. 9 to be effective 4/27/2012.

Filed Date: 4/27/12.

Accession Number: 20120427-5276.

Comments Due: 5 p.m. ET 5/18/12.

Docket Numbers: ER12-1636-000.

Applicants: California Independent System Operator Corporation.

Description: California Independent System Operator Corporation submits tariff filing per 35.13(a)(2)(iii: 2012-04-27 CAISO, BANC Dynamic Transfer Agreement to be effective 6/28/2012.

Filed Date: 4/27/12.

Accession Number: 20120427-5279.

Comments Due: 5 p.m. ET 5/18/12.

Docket Numbers: ER12-1637-000.

Applicants: California Independent System Operator Corporation.

Description: California Independent System Operator Corporation submits tariff filing per 35.13(a)(2)(iii: 2012-04-27 CAISO, BANC, Western, PGE Pseudo-Tie Agreement to be effective 6/28/2012.

Filed Date: 4/27/12.

Accession Number: 20120427-5280.

Comments Due: 5 p.m. ET 5/18/12.

Take notice that the Commission received the following land acquisition reports:

Docket Numbers: LA12-1-000.

Applicants: Niagara Generation, LLC.

Description: Land Acquisition Report/Form (1Q 2012) of Niagara Generation, LLC.

Filed Date: 4/27/12.

Accession Number: 20120427-5261.

Comments Due: 5 p.m. ET 5/18/12.

Docket Numbers: LA12-1-000.

Applicants: Spring Canyon Energy LLC, Judith Gap Energy LLC, Invenergy TN LLC, Wolverine Creek Energy LLC, Grays Harbor Energy LLC, Forward Energy LLC, Willow Creek Energy LLC, Sheldon Energy LLC, Hardee Power Partners Limited, Spindle Hill Energy LLC, Invenergy Cannon Falls LLC, Beech Ridge Energy LLC, Grand Ridge Energy LLC, Grand Ridge Energy II LLC, Grand Ridge Energy III LLC, Grand Ridge Energy IV LLC, Grand Ridge Energy V LLC, VantageWind Energy LLC, Stony Creek Energy LLC, Gratiot CountyWind LLC, Gratiot CountyWind II LLC, Bishop Hill Energy LLC, Bishop Hill Energy III LLC and California Ridge Wind Energy LLC.

Description: Generation Site Report First Quarter 2012 of Spring Canyon Energy LLC, et al.

Filed Date: 4/27/12.

Accession Number: 20120427-5262.

Comments Due: 5 p.m. ET 5/18/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 27, 2012.
Nathaniel J. Davis, Sr.,
Deputy Secretary.

[FR Doc. 2012-10976 Filed 5-7-12; 8:45 am]

BILLING CODE 6717-01-P